DEPARTMENT OF STATE

[Public Notice: 11998]

30-Day Notice of Proposed Information Collection: Request for Approval of Manufacturing License Agreements, Technical Assistance Agreements, and Other Agreements, Maintenance of Records by DDTC Registrants, Annual Brokering Report, Brokering Prior Approval (License)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to March 30, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Andrea Battista, who may be reached at battistaal@state.gov or 202-992-0973.

SUPPLEMENTARY INFORMATION:

• Title of Information Collection: Request for Approval of Manufacturing License Agreements, Technical Assistance Agreements, and Other Agreements.

• OMB Control Number: 1405-0093.

• Type of Request: Extension of a Currently Approved Collection.

• Originating Office: PM/DDTC.

• Form Number: No form.

• Respondents: Business, Nonprofit Organizations, or Persons who intend to furnish defense services or technical data to a foreign person.

• Estimated Number of Respondents: 580.

• Estimated Number of Responses: 4,430.

• Average Time per Response: 2 hours.

• Total Estimated Burden Time: 8,860.

• Frequency: On occasion.

• Obligation to Respond: Required to Obtain or Retain a Benefit.

• Title of Information Collection: Maintenance of Records by Registrants.

• OMB Control Number: 1405-0111.

• Type of Request: Extension of a currently approved collection.

• Originating Office: Directorate of Defense Trade Controls (PM/DDTC).

• Form Number: No form.

• Respondents: Persons registered with DDTC who conduct business regulated by the International Traffic in Arms Regulations (ITAR, 22 CFR parts 120-130).

• Estimated Number of Respondents: 9,100.

• Estimated Number of Responses: 9,100.

• Average Time per Response: 20 hours.

• Total Estimated Burden Time: 182,000 hours.

• Frequency: Annually.

• Obligation to Respond: Mandatory.

• Title of Information Collection: Annual Brokering Report.

• OMB Control Number: 1405-0141.

• Type of Request: Extension of a Currently Approved Collection.

• Originating Office: Directorate of Defense Trade Controls (DDTC).

• Form Number: No Form.

• Respondents: Respondents are any person/s who engages in the United States in the business of manufacturing or exporting or temporarily importing defense articles.

• Estimated Number of Respondents: 1,200.

• Estimated Number of Responses: 1,200.

• Average Time per Response: 2 hours.

• Total Estimated Burden Time: 2,400 hours.

• Frequency: Annually.

• Obligation to Respond: Required to Obtain or Retain Benefit.

• Title of Information Collection: Brokering Prior Approval.

• OMB Control Number: 1405-0142.

• Type of Request: Extension of a Currently Approved Collection.

• Originating Office: Directorate of Defense Trade Controls (DDTC).

• Form Number: DS-4294.

• Respondents: Respondents are U.S. and foreign persons who wish to engage in International Traffic in Arms Regulations (ITAR)-controlled brokering of defense articles and defense services.

• Estimated Number of Respondents: 170.

• Estimated Number of Responses: 170.

• Average Time per Response: 2 hours.

• Total Estimated Burden Time: 340 hours.

• Frequency: On Occasion.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

DDTC regulates the export and temporary import of defense articles and services enumerated on the USML in accordance with the Arms Export Control Act (AECA) (22 U.S.C. 2751 et seq.) and the International Traffic in Arms Regulations (ITAR) (22 CFR parts 120-130). In accordance with ITAR § 124.1, any person who intends to furnish defense services or technical data to a foreign person must submit a proposed technical assistance, manufacturing, or distribution license agreement and obtain prior authorization from DDTC for such agreement. Amendments to existing agreements must also be submitted for approval. The electronic mechanism utilized for submitting, reviewing, and approving agreement proposals is the Defense Export Control and Compliance System, DECCS. Specifically, this process utilizes the DSP-5 license application as the primary instrument or “vehicle” for transmitting agreements and their respective amendments from one phase of the adjudication process to the next.

The ITAR requires persons registered with DDTC to maintain records pertaining to defense trade-related transactions. This information collection approves the record-keeping requirements imposed on registrants by the ITAR. Respondents to this collection may submit their records to DDTC as supporting documentation for disclosures of potential violations of the AECA. The method by which respondents submit these records is approved under OMB control no. 1405-0179. DDTC uses these records to analyze industry compliance processes and procedures, and to help assess whether the activity in question might merit administrative sanctions or referral to the Department of Justice for possible criminal prosecution.

In accordance with part 129 of the ITAR, U.S. and foreign persons required to register as a broker shall provide annually a report to DDTC enumerating and describing brokering activities by quantity, type, U.S. dollar value, purchaser/recipient, and license number for approved activities and any exemptions utilized for other covered activities. This information is currently used in the review of munitions export and brokering license applications and to ensure compliance with defense trade statutes and regulations. As appropriate, such information may be shared with other U.S. Government entities.

In accordance with part 129 of the International Traffic in Arms Regulations (ITAR), U.S. and foreign persons who wish to engage in ITAR-controlled brokering activity of defense articles and defense services must first register with DDTC. Brokers must then submit a written request for approval to DDTC and must receive DDTC's consent prior to engaging in such activities unless exempted. This information is currently used in the review of the brokering request submitted for approval and to ensure compliance with defense trade statutes and regulations. It is also used to monitor and control the transfer of sensitive U.S. technology.

Methodology

Respondents will submit information as attachments to relevant license applications or requests for other approval.

Respondents may maintain records in any format consistent with the provisions in ITAR § 122.5.

Brokering Reports are submitted annually with Statement of Registration renewals. Applicants are referred to ITAR part 129 for guidance on information to submit regarding proposed brokering activity. Applicants may submit a Brokering Prior Approval Request electronically via DDTC's Defense Export Control and Compliance System (DECCS), using the DS-4294.

Kevin E. Bryant,
Deputy Director, Office of Directives Management, Department of State.

[FR Doc. 2023-04017 Filed 2-27-23; 8:45 am]

BILLING CODE 4710-25-P